DEPARTMENT OF ENERGY

Federal Energy Regulatory Commission

Combined Notice of Filings #1

December 4, 2006.

Take notice that the Commission received the following exempt wholesale generator filings:

Docket Numbers: EG07-13-000.

Applicants: Endeavor Power Partners, LLC.

Description: Endeavor Power Partners, LLC submits a notice of self-certification of exempt wholesale generator status.

Filed Date: 11/29/2006.

Accession Number: 20061201-0054.

Comment Date: 5 p.m. Eastern Time on Wednesday, December 20, 2006.

Docket Numbers: EG07-17-000.

Applicants: MMC Mid-Sun, LLC.

Description: MMC Mid-Sun, LLC submits a notice of Self-Certification of Exempt Wholesale Generator Status.

Filed Date: 11/30/2006.

Accession Number: 20061130-5058.

Comment Date: 5 p.m. Eastern Time on Thursday, December 21, 2006.

Take notice that the Commission received the following electric rate filings:

Docket Numbers: ER99-3151-007; ER97-837-006.

Applicants: PSEG Energy Resources & Trade LLC; Public Service Electric and Gas Company.

Description: PSEG Energy Resources & Trade, LLC and Public Service Electric & Gas Co. submit a joint triennial market power report.

Filed Date: 11/30/2006.

Accession Number: 20061204-0144.

Comment Date: 5 p.m. Eastern Time on Thursday, December 21, 2006.

Docket Numbers: ER03-9-008; ER98-2157-009.

Applicants: Westar Energy, Inc.; Kansas Gas and Electric Company.

Description: Westar Energy Inc, et al., submits a notice of non-material change in status related to its purchase of the Spring Creek Power Plant located in Logan County, Oklahoma.

Filed Date: 11/30/2006.

Accession Number: 20061204-0134.

Comment Date: 5 p.m. Eastern Time on Thursday, December 21, 2006.

Docket Numbers: ER05-719-004.

Applicants: Entergy Services, Inc.

Description: Entergy Services Inc, on behalf of Entergy Arkansas Inc submits a refund report in compliance with FERC's 11/2/06 Order.

Filed Date: 11/29/2006.

Accession Number: 20061201-0077.

Comment Date: 5 p.m. Eastern Time on Wednesday, December 20, 2006.

Docket Numbers: ER06-451-012; ER06-1047-005.

Applicants: Southwest Power Pool, Inc.

Description: Southwest Power Pool, Inc submits a compliance filing pursuant to the Commission's 10/26/06 order, to modify energy imbalance market and market monitoring procedures.

Filed Date: 11/27/2006.

Accession Number: 20061201-0078.

Comment Date: 5 p.m. Eastern Time on Monday, December 18, 2006.

Docket Numbers: ER06-1343-001.

Applicants: PJM Interconnection, LLC.

Description: PJM Interconnection, LLC submits corrections to its Wholesale Market Participation Agreement pursuant to the Commission's request.

Filed Date: 11/30/2006.

Accession Number: 20061204-0135.

Comment Date: 5 p.m. Eastern Time on Thursday, December 21, 2006.

Docket Numbers: ER06-1420-002.

Applicants: Midwest Independent Transmission System Operator, Inc.

Description: Midwest Independent Transmission System Operator, Inc. and the Signatory Parties submit proposed revisions to Section 1 of Midwest Contingency Reserve Sharing Group Agreement.

Filed Date: 11/30/2006

Accession Number: 20061204-0138.

Comment Date: 5 p.m. Eastern Time on Thursday, December 21, 2006.

Docket Numbers: ER06-1422-001.

Applicants: Louisville Gas & Electric Company; Kentucky Utilities Company.

Description: Louisville Gas and Electric Co and Kentucky Utilities Co submit a compliance filing re the Automatic Reserve Energy Sales Tariff pursuant to the 11/14/06 Letter Order.

Filed Date: 11/29/2006.

Accession Number: 20061201-0080.

Comment Date: 5 p.m. Eastern Time on Wednesday, December 20, 2006.

Docket Numbers: ER06-1471-001.

Applicants: Westar Energy, Inc.

Description: Westar Energy, Inc submits sub. Original Sheets 134A-134B, Schedule 4A, to FERC Electric Tariff, Second Revised Volume 5 pursuant to FERC's 10/30/06 Order.

Filed Date: 11/29/2006.

Accession Number: 20061201-0081.

Comment Date: 5 p.m. Eastern Time on Wednesday, December 20, 2006.

Docket Numbers: ER06-1488-002.

Applicants: Oklahoma Gas and Electric Company.

Description: Oklahoma Gas and Electric Co submits revised pages to its Open Access Transmission Tariff, FERC Electric Tariff, Third Revised Volume 2, pursuant to the Commission's 10/30/06 Order.

Filed Date: 11/29/2006.

Accession Number: 20061204-0136.

Comment Date: 5 p.m. Eastern Time on Wednesday, December 20, 2006.

Docket Numbers: ER07-59-001.

Applicants: Fortis Energy Marketing & Trading GP.

Description: Fortis Energy Marketing & Trading GP submits Substitute Original Sheet Nos. 1-3 of its FERC Gas Tariff Original Volume 1 filed 10/23/06.

Filed Date: 11/28/2006.

Accession Number: 20061130-0191.

Comment Date: 5 p.m. Eastern Time on Friday, December 8, 2006.

Docket Numbers: ER07-109-001.

Applicants: BTEC Southaven LLC.

Description: BTEC Southaven LLC submits a clean and black-lined version of Substitute Original Sheet 1, FERC Electric Tariff, Original Volume 1.

Filed Date: 11/29/2006.

Accession Number: 20061201-0079.

Comment Date: 5 p.m. Eastern Time on Wednesday, December 20, 2006.

Docket Numbers: ER07-110-001.

Applicants: BTEC New Albany LLC.

Description: BTEC New Albany LLC submits a clean and black-lined version of the revised Substitute Original Sheet 1 et al. to its FERC Electric Tariff, Original Volume 1.

Filed Date: 11/29/2006.

Accession Number: 20061201-0082.

Comment Date: 5 p.m. Eastern Time on Wednesday, December 20, 2006.

Docket Numbers: ER07-250-000.

Applicants: Westar Energy, Inc.; Kansas Gas and Electric Company.

Description: Westar Energy, Inc. submits a Second Revised Sheet 1 et al. of Rate Schedule FERC 152 with the Missouri Public Service Company.

Filed Date: 11/28/2006.

Accession Number: 20061130-0198.

Comment Date: 5 p.m. Eastern Time on Tuesday, December 19, 2006.

Docket Numbers: ER07-251-000.

Applicants: Southern California Edison Company.

Description: Southern California Edison submits the Anaheim-Puente Development Wholesale Distribution Load Interconnection Facilities Agreement etc. with the City of Industry.

Filed Date: 11/28/2006.

Accession Number: 20061130-0199.

Comment Date: 5 p.m. Eastern Time on Tuesday, December 19, 2006.

Docket Numbers: ER07-252-000.

Applicants: Southern California Edison Company.

Description: Southern California Edison Co submits a Letter Agreement with the Los Angeles County Sanitation District 2 of Los Angeles County, CA.

Filed Date: 11/28/2006.

Accession Number: 20061130-0200.

Comment Date: 5 p.m. Eastern Time on Tuesday, December 19, 2006.

Docket Numbers: ER07-253-000.

Applicants: E.ON U.S., LLC.

Description: E.ON U.S., LLC on behalf of Louisville Gas & Electric Co et al. submits an executed umbrella Firm Point-to-Point transmission service agreement etc. with East Kentucky Power Coop et al.

Filed Date: 11/29/2006.

Accession Number: 20061201-0072.

Comment Date: 5 p.m. Eastern Time on Wednesday, December 20, 2006.

Docket Numbers: ER07-254-000.

Applicants: Casselman Windpower LLC.

Description: Casselman Windpower LLC submits its initial rate schedule, a request for granting of authorizations and blanket authority and for waivers of certain requirements.

Filed Date: 11/29/2006.

Accession Number: 20061201-0073.

Comment Date: 5 p.m. Eastern Time on Wednesday, December 20, 2006.

Docket Numbers: ER07-255-000.

Applicants: Southern California Edison Company.

Description: Southern California Edison Co submits two rate sheets to the Nandina Avenue Wholesale Distribution Load Interconnection Facilities Agreement with the City of Moreno Valley.

Filed Date: 11/29/2006.

Accession Number: 20061201-0071.

Comment Date: 5 p.m. Eastern Time on Wednesday, December 20, 2006.

Docket Numbers: ER07-256-000.

Applicants: PJM Interconnection, L.L.C.

Description: PJM Interconnection LLC submits an executed Interconnection Service Agreement with Catoctin Power LLC, and The Potomac Edison Company.

Filed Date: 11/29/2006.

Accession Number: 20061201-0070.

Comment Date: 5 p.m. Eastern Time on Wednesday, December 20, 2006.

Docket Numbers: ER07-257-000.

Applicants: Connecticut Light and Power Company; Northeast Utilities Service Company.

Description: Northeast Utilities Service Co on behalf of the Connecticut Light and Power Co submits two agreements relating to the construction and use of the Long Island Sound Replacement Cable.

Filed Date: 11/29/2006.

Accession Number: 20061201-0102.

Comment Date: 5 p.m. Eastern Time on Wednesday, December 20, 2006.

Docket Numbers: ER07-258-000.

Applicants: New England Power Pool Participants Committee.

Description: New England Power Pool Participants Committee submits a counterpart signature pages of the New England Power Pool Agreement dated as of 9/1/71 as amended & executed by SAC Energy Investments, LP et al.

Filed Date: 11/30/2006.

Accession Number: 20061201-0083.

Comment Date: 5 p.m. Eastern Time on Thursday, December 21, 2006.

Docket Numbers: ER07-259-000.

Applicants: Cleco Power LLC.

Description: Cleco Power LLC submits an unexecuted Joint Interface Facility Operating and Maintenance Agreement with Entergy Services, Inc.

Filed Date: 11/30/2006.

Accession Number: 20061201-0084.

Comment Date: 5 p.m. Eastern Time on Thursday, December 21, 2006.

Docket Numbers: ER07-260-000.

Applicants: PacifiCorp.

Description: PacifiCorp submits its Second Revised Rate Schedule 248 canceling their First Revised Rate Schedule 248 with Southern California Edison.

Filed Date: 11/30/2006.

Accession Number: 20061201-0085.

Comment Date: 5 p.m. Eastern Time on Thursday, December 21, 2006.

Docket Numbers: ER07-262-000.

Applicants: Central Vermont Public Service Corporation.

Description: Central Vermont Public Service Corp, on behalf of The Village of Morrisville Water and Light Department submits an executed Network Integration Transmission Service Agreement.

Filed Date: 11/30/2006.

Accession Number: 20061204-0137.

Comment Date: 5 p.m. Eastern Time on Thursday, December 21, 2006.

Docket Numbers: ER07-264-000.

Applicants: MMC Mid-Sun, LLC.

Description: MMC Mid-Sun, LLC submits its application for acceptance of Initial Market-Based Rate Tariff, FERC Electric Tariff, Original Volume 1.

Filed Date: 11/30/2006.

Accession Number: 20061204-0132.

Comment Date: 5 p.m. Eastern Time on Thursday, December 21, 2006.

Docket Numbers: ER07-265-000.

Applicants: Sempra Energy Solutions LLC.

Description: Sempra Energy Solutions, LLC submits a notice of succession that reflects the adoption by Sempra Energy Solution's First Revised Rate Schedule 1.

Filed Date: 11/30/2006.

Accession Number: 20061204-0133.

Comment Date: 5 p.m. Eastern Time on Thursday, December 21, 2006.

Docket Numbers: ER07-266-000; ER06-1485-002.

Applicants: Xcel Energy Services Inc.

Description: Xcel Energy Services Inc. submits a revised version of Schedule 4A-Reserve Sharing Energy Charges to Xcel Energy Operating Open Access Transmission Tariff, FERC Electric Tariff, First Revised Volume 1 pursuant to the Commission's 10/30/06 Order.

Filed Date: 11/29/2006.

Accession Number: 20061130-0189.

Comment Date: 5 p.m. Eastern Time on Wednesday, December 20, 2006.

Take notice that the Commission received the following public utility holding company filings:

Docket Numbers: PH07-7-000.

Applicants: Constellation Energy Group Inc.

Description: Constellation Energy Group, Inc. submits a Notice of Waiver pursuant to Section 366.4(c)(1) of PUHCA 2005.

Filed Date: 11/30/2006.

Accession Number: 20061130-5059.

Comment Date: 5 p.m. Eastern Time on Thursday, December 21, 2006.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERCOnline service, please e-mail FERCOnlineSupport@ferc.gov. or call (866) 208-3676 (toll free). For TTY, call (202) 502-8659.

Magalie R. Salas,
Secretary.

[FR Doc. E6-21091 Filed 12-11-06; 8:45 am]

BILLING CODE 6717-01-P